DEPARTMENT OF TRANSPORTATION

National Highway Traffic Safety Administration

49 CFR Part 571

[Docket No. NHTSA-01-9785]

Notice of Public Meeting and Request for Comments To Address the Development of a Booster Seat Education Plan

AGENCY: National Highway Traffic Safety Administration (NHTSA), DOT.

ACTION: Notice of Public Meeting and Request for Comments.

SUMMARY: On July 10, 2001, NHTSA will hold a public meeting to discuss the development of a 5 year strategic booster seat education plan, for implementation beginning November 2001. The intent of this meeting is to allow the sharing of viewpoints, information, and ideas on this important subject among all interested members of the public, including industry, government, and advocacy groups. Topics to be discussed include, but are not limited to, educational programs, program effectiveness and evaluation, target audiences, program delivery, challenges, and funding sources. Discussion topics will also be based on written comments received as a result of this Notice; comments submitted previously under a Request for Comments for “Child Restraint System Safety Plan,” Federal Register Notice published November 27, 2000, Docket Number NHTSA 7938; recommendations of the Blue Ribbon Panel II (“Protecting Our Older Child Passengers,” web address: http://www.actsinc.org/whatsnew_6.html); as well as recommendations from the Association for the Advancement of Automotive Medicine's (AAAM, web address: www.carcrash.org) meeting on “Booster Seats for Children: Closing the Gap Between Science and Public Policy,” held in Washington, DC on April 23 and 24, 2001. The public is invited to participate in the meeting in any of four ways: by requesting to make a presentation at the meeting, by submitting written comments to be included in the public record, by submitting suggestions for topics to be included on the meeting agenda, and by attending the meeting. We anticipate that the published plan will lead to an increase in the use of booster seats by improving consumer awareness of the safety benefits of booster seat use, the importance of using booster seats, as well as enforcing the laws in those states that have upgraded their child restraint laws to include booster seats for children 4 to 8 years old.

DATES: Public Meeting: NHTSA will hold a public meeting on July 10, 2001, from 10 a.m. to 12 p.m., and continuing from 1 p.m. to 3 p.m., if necessary, at the below listed address.

Written Comments: Written requests to speak at the public meeting, comments to be submitted for the public record, and suggestions for items to be included in the meeting agenda, should be received at Docket Management at the below address no later than July 13, 2001.

ADDRESSES: Public Meeting: The public meeting will be held in room 2230, U.S. Department of Transportation, 400 Seventh Street, S.W., Washington, DC 20590.

Written Comments: Submit written comments to the DOT Docket Management System, U.S. Department of Transportation, PL 401, 400 Seventh Street, SW, Washington, D.C. 20590-0001. Comments should refer to the Docket Number (NHTSA-01-9785) and be submitted in two copies. If you wish to receive confirmation of receipt of your written comments, include a self-addressed, stamped postcard.

Comments may also be submitted to the docket electronically by logging onto the DOT Docket Management System website at http://dms.dot.gov. Click on “Help & Information” to obtain instructions for filing the comment electronically. In every case, the comment should refer to the Docket Number.

Claim of Confidentiality for Written Comments: Such claims should be submitted to Chief Counsel, NCC-01, National Highway Traffic Safety Administration, Room 5219, 400 Seventh Street, SW., Washington, DC 20590, and Tami Levitas, Occupant Protection Division, NTS-12, National Highway Traffic Safety Administration, 400 Seventh Street, SW., Washington, DC 20590. Include Docket Number and Notice title with correspondence.

FOR FURTHER INFORMATION CONTACT: Tami Levitas, at the above address, telephone (202) 366-0652, Fax (202) 366-2766, e-mail tlevitas@nhtsa.dot.gov.

SUPPLEMENTARY INFORMATION: We are all concerned with assuring the safety of our children, our most precious resources. With the cooperation of numerous partners, including the child restraint industry, automotive industry, citizen activists, non-profit organizations, and government, we have made great strides during the past few years in enhancing the safety of children riding in motor vehicles. For example, all states now have laws requiring children to be in child restraints, and some of these laws have been upgraded to cover the use of booster seats. More and more children are riding in child restraints, and they have saved over 300 lives per year over the past five years. There has also been an increased public awareness of the need to install child restraint systems properly and to keep children in appropriate child restraint systems as long as possible.

Despite the successes, there are issues that require further attention. One such area is the use of booster seats. Restraint use decreases as children get older. While restraint use for infants is 97 percent, and for toddlers (ages 1 through 4) is 91 percent, restraint use for children ages 5 through 15 decreases to 72 percent. These are children approximately ages 4 to 8. This age group accounts for 25 percent of all fatalities among children under age 15.

The Transportation Recall Enhancement, Accountability and Documentation (TREAD) Act, enacted in November 2000, charged the Secretary of Transportation with developing a five year strategic plan to reduce deaths and injuries caused by failure to use the appropriate booster seat in the 4 to 8 year old age group by 25 percent. TREAD requires that this plan be implemented in November 2001.

In addition to the general public, the agency invites such groups as the booster seat manufacturers, data collection/insurance groups, child advocacy groups, etc., to submit comments on this notice. All written comments shall be in English. Comments must not exceed 15 pages in length, but necessary attachments may be appended to these submissions without regard to the 15-page limit (49 CFR 553.21). This limitation is intended to encourage commenters to detail their primary arguments in a concise fashion.

Amendments to comments received under Request for Comments “Child Restraint System Safety Plan” published in the November 27, 2000 Federal Register (Docket Number NHTSA-7938) are also welcomed.

If a commenter wishes to submit certain information under a claim of confidentiality, three copies of the complete submission, including purportedly confidential business information, should be submitted to the Chief Counsel, NHTSA, at the street address given above, and two copies from which the purportedly confidential information has been deleted should be submitted to Tami Levitas at the above address. A request for confidentiality should be accompanied by a cover letter setting forth the information specified in the agency's confidential business information regulation (49 CFR part 512).

Further information on booster seats can be obtained by going to the NHTSA web site at www.nhtsa.dot.gov.

On July 10, 2001, NHTSA will conduct a public meeting to provide a forum for all interested persons to discuss the issues set out above. Some of the topics to be discussed at the meeting include:

1. What type(s) of educational programing should be developed to increase booster seat use?

2. What types of educational programing will have the biggest impact on increasing booster seat use?

3. What do you see as the single greatest challenge in educating the public about booster seat use? How do we overcome this challenge?

4. Who are the primary target audiences for booster seat education? Please identify specific segments of the population.

5. What is the best method of program delivery (e.g. mass communication, classroom setting; electronic medium, etc.)?

6. With whom should NHTSA partner to develop this plan?

7. What role should private sector entities (i.e. auto manufacturers, child restraint manufacturers, retail outlets, etc.) play in this program?

8. What are potential funding sources for program activities?

9. What criterion(a) do people use when selecting a booster seat?

10. What are the different types of booster seats?

11. How do the different types of booster seats compare in terms of: features, cost, ease of use, etc.?

12. Other topics will be based on comments received from this announcement.

If you wish to make a presentation at the meeting, please contact Tami Levitas at the above mailing address or telephone number by July 2, 2001. If your presentation will include slides, motion pictures, or other visual aids, please so indicate and NHTSA will make the proper equipment available. Presenters should bring at least one copy of their presentation to the meeting so that NHTSA can readily include the material in the public record. Those speaking at the public meeting should limit the length of their presentations to 10 minutes. Due to time limitations, NHTSA may have to limit the number of presenters per organization. NHTSA will provide auxiliary aids to participants as necessary. Any person desiring “auxiliary aids” (e.g., sign-language interpreter, telecommunications devices for deaf persons (TDDs), readers, taped texts, brailled materials, or large print materials and/or a magnifying device), please contact Tami Levitas.

Since Section 14 of the TREAD Act charged NHTSA with “Improving the safety of child restraints,” this is the first of several Federal Register notices to be published that will advise of public meetings, request for comments, and/or advise of notice of proposed rulemaking on topics such as child seat labeling, child restraint ratings system, and booster seat study.

I've Submitted Comments Before Under Similar Topics, What About Those Comments?

Amendments to comments received under Request for Comments “Child Restraint System Safety Plan” published in the November 27, 2000, Docket Number NHTSA-7938, Federal Register are also welcomed.

How Do I Prepare and Submit Comments?

Your comments must be written and in English. To ensure that your comments are correctly filed in the Docket, please include the Docket Number of this document (NHTSA-01-9785) in your comments. Submit all written comments to the Docket Management at the above address.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 9:00 a.m. to 5:00 p.m., Monday through Friday.

You may also see the comments on the Internet by taking the following steps:

a. Go to the Docket Management System (DMS) Web page of the Department of Transportation (http://dms.dot.gov).

b. On that page, click on “search.”

c. On the next page ((http://dms.dot.gov/search/) type in the four-digit Docket Number shown at the beginning of this document (9785). Click on “search.”

d. On the next page, which contains Docket summary information for the Docket you selected, click on the desired comments. You may also download the comments.

Authority: 49 U.S.C. 30111, 30117, 30168; delegation of authority at 49 CFR 1.50 and 501.8.

Marilena Amoni,
Acting Associate Administrator for Traffic Safety Programs.

[FR Doc. 01-14284 Filed 6-5-01; 8:45 am]

BILLING CODE 4910-59-P